FEDERAL MARITIME COMMISSION

Security for the Protection of the Public Indemnification of Passengers for Nonperformance of Transportation; Notice of Issuance of Certificate (Performance)

Notice is hereby given that the following have been issued a Certificate of Financial Responsibility for Indemnification of Passengers for Nonperformance of Transportation pursuant to the provisions of section 3, Public Law 89-777 (46 U.S.C. § 817 (e)) and the Federal Maritime Commission's implementing regulations at 46 CFR part 540, as amended:

American Classic Voyages Company, 1380 Port of New Orleans Place, New Orleans, LA 70130-1890

Vessels: Coastal Queen No. 1 and Coastal Queen No. 2

Costa Crociere S.p.A. and Costa Cruise Lines N.V.,World Trade Center, 80 S.W. 8th Street, Miami, FL 33130-3097

Vessel: Costa Atlantica

Cunard Line Limited (d/b/a Seabourn Cruise Line), 6100 Blue Lagoon Drive, Suite 400, Miami, FL 33126

Vessels: Seabourn Goddess I, Seabourn Goddess II and Seabourn Sun

Premier Operations, Ltd. (d/b/a Premier Cruises and Premier Cruise Lines), 400 Challenger Road, Cape Canaveral, FL 32920

Vessels: The Big Red Boat II, The Big Red Boat III, Oceanic, Rembrandt and Seabreeze I

Princess Cruises, Inc., Princess Cruise Lines, Ltd., and The Peninsular and Oriental Steam Navigation Company, 10100 Santa Monica Blvd., Suite 1800, Los Angeles, CA 90067

Vessels: Crown Princess, Dawn Princess, Golden Princess, Grand Princess, Ocean Princess, Regal Princess, Sea Princess and Sun Princess

Radisson Seven Seas Cruises, Inc., 600 Corporate Drive, Suite 410, Fort Lauderdale, FL 33334

Vessel: Seven Seas Mariner

Royal Caribbean Cruises Ltd. (d/b/a Royal Caribbean International), 1050 Caribbean Way, Miami, FL 33132-2096

Vessels: Adventure of the Seas, Brilliance of the Seas, Radiance of the Seas, Vantage III and Vantage IV

Silversea Cruises, Ltd., 110 East Broward Blvd., Fort Lauderdale, FL 33301

Vessel: Silver Shadow

Dated: June 2, 2000.
Bryant L. VanBrakle,
Secretary.

[FR Doc. 00-14345 Filed 6-6-00; 8:45 am]

BILLING CODE 6730-01-P